DEPARTMENT OF ENERGY

Federal Energy Regulatory Commission

[Docket Nos. CP17-495-000; CP17-494-000]

Jordan Cove Energy Project, L.P., Pacific Connector Gas Pipeline, L.P.; Notice of Meeting

The environmental staff of the Federal Energy Regulatory Commission (Commission) along with representatives of the U.S. Forest Service, Bureau of Land Management, and the U.S. Army Corps of Engineers will meet with representatives of the Yurok Tribe to discuss the proposed Jordan Cove LNG and Pacific Connector Pipeline Projects. The meeting will be held at the location and time listed below:

Yurok Tribe—Klamath Administrative Office, 190 Klamath Boulevard, Klamath, CA 95548, Phone: (707) 482-1350, Wednesday, July 18, 2018, 10:00 a.m. PDT

Members of the public and intervenors in the referenced proceeding may attend and observe this meeting; however, participation will be limited to tribal representatives and agency personnel. If tribal representatives decide to disclose information about a specific location which could create a risk or harm to an archeological site or Native American cultural resource, the public will be excused for that portion of the meeting. A summary of the meeting will be entered into the Commission's administrative record.

If you plan to attend this meeting, please contact Mr. John Peconom, Environmental Project Manager at (202) 502-6352 or John.Peconom@ferc.gov.

Dated: July 10, 2018.
Nathaniel J. Davis, Sr.,
Deputy Secretary.

[FR Doc. 2018-15125 Filed 7-13-18; 8:45 am]

BILLING CODE 6717-01-P